FEDERAL COMMUNICATIONS COMMISSION

[DA 00-1360]

Freeze Lifted on the Filing of High Power Applications for 12.5 kHz Offset Channels in the 450-460 MHz Band

AGENCY: Federal Communications Commission.

ACTION: Notice.

SUMMARY: In this document, the Commission lifts the freeze on the filing of high power applications. We established a Wireless Telemetry Service and allocated spectrum for medical telemetry operations. Channels that were removed from regularly-assignable channels and reserved for low power operation were reclassified as regularly-assignable channels available for high power operation. In doing so, we are promoting more efficient use of private land mobile radio.

ADDRESSES: Federal Communications Commission, 445 12th Street, SW., Washington, DC 20554.

FOR FURTHER INFORMATION CONTACT: Michael Wilhelm, Wireless Telecommunications Bureau, Public Safety and Private Wireless Division, (202) 418-0680.

SUPPLEMENTARY INFORMATION: The Public Notice was released on June 29, 2000. The document is available, in entirety, for inspection and copying during normal business hours in the FCC Reference Center (Room CY-A257), 445 12th Street, SW, Washington, DC 20554. It may also be purchased from the Commission's copy contractor, International Transcription Services, Inc. (ITS, Inc.) 1231 20th Street, NW., Washington, DC 20036, (202) 857-3800. In addition, it is available on the Commission's website at http://www.fcc.gov/Bureaus/Wireless/Orders/2000/fcc00076.pdf.

Summary of the Public Notice

1. The Report and Order in ET Docket No. 99-255, noted that the Commission would lift the freeze on high power use of the 12.5 kHz offset channels in the 450-460 MHz band. This Public Notice lifts the freeze on filing applications requesting power in excess of that previously permitted on the 12.5 kHz offset channels in the 450-460 MHz band effective 7 months from the date of this Public Notice. Thus, WTB will start accepting applications for 12.5 kHz offset channels in the 450-460 MHz band requesting high power on January 29, 2001. Further, the Public Notice established January 2, 2001, as the earliest date on which requests for coordination of high-powered operation may be submitted to a certified frequency coordinator. As noted in the Report and Order in ET Docket 99-255, WTB will address lifting the freeze for high power use in the 460-470 MHz band at a later date. In a companion Public Notice released the same day, WTB announced acceptance of the LMCC low power plan.

2. According to the Public Notice, after the freeze is lifted existing low power users may remain on the channel they are currently authorized to operate. Users that do so, however, are reminded that if the channel is available for high power operation they will not be afforded interference protection from high power stations. Incumbent low power users on the 12.5 kHz offset channels where high power operations will be permitted may nonetheless obtain primary status by increasing power, specifying coordinates (or operating area) and employing narrowband (12.5 kHz) equipment. The Public Notice noted, however, that obtaining such primary status does not guarantee that low power licensees will not receive interference from high power operations. Also, existing low power users may move to one of the designated low power channels as specified in the companion Public Notice. Further, they may move to a low power offset channel even if they are using wideband (greater than 12.5 kHz) equipment. However, if wideband equipment is utilized, the low power stations will be secondary to adjacent channel operations.

List of Subjects in 47 CFR Part 90

Communications equipment, Radio.

Federal Communications Commission.
Magalie Roman Salas,
Secretary.

[FR Doc. 00-20104 Filed 8-8-00; 8:45 am]

BILLING CODE 6712-01-U